DEPARTMENT OF HEALTH AND HUMAN SERVICES

Centers for Disease Control and Prevention

[Program Announcement 02145]

Coalition Capacity Building for Teen Pregnancy Prevention; Notice of Availability of Funds

A. Purpose

The Centers for Disease Control and Prevention (CDC) announces the availability of fiscal year 2002 funds for a cooperative agreement program for Coalition Capacity Building for Teen Pregnancy Prevention. This program addresses the “Healthy People 2010” focus areas of Education and Community-Based Programs, Family Planning, Maternal, Infant, and Child Health, HIV, and Sexually Transmitted Diseases (STDs).

The purpose of this program announcement is to assist recipients to build capacity through the application of science-based principles to prevent teen pregnancy and promote adolescent reproductive health, including abstinence, and the prevention of STDs and HIV. This will be accomplished through capacity building, including program evaluation.

This program announcement contains two components:

1. Increasing Capacity in Teen Pregnancy Prevention through National Organizations

2. Increasing Capacity in Teen Pregnancy Prevention through State and Local Coalitions

The focus of the Increasing Capacity in Teen Pregnancy Prevention through National Organizations component is to assist national organizations to develop a nationwide strategic plan, and provide technical assistance to State and local organizations to implement, translate, and disseminate science-based programs that prevent teen pregnancy and promote adolescent reproductive health, including abstinence and the prevention STDs and HIV, thereby increasing the adaptation of science-based interventions.

The focus of the Increasing Capacity in Teen Pregnancy Prevention through State and Local Coalitions component is to strengthen the ability of State and city teen pregnancy prevention coalitions to select, implement, and evaluate science-based programs that address local needs.

B. Authority and Catalog of Federal Domestic Assistance Number

This program is authorized under section 301(a) and 317(k)(2) of the Public Health Service Act, (42 U.S.C. section 241(a) and 247b (k) (2)), as amended. The Catalog of Federal Domestic Assistance number is 93.283.

C. Eligible Applicants

For the component Increasing Capacity in Teen Pregnancy Prevention through National Organizations, an eligible applicant is a national nonprofit, non-governmental organization proposing to serve coalitions that have a documented history of providing teen pregnancy prevention training and capacity building. Faith-based organizations are eligible to apply for funding under this program announcement.

National organizations are uniquely qualified to plan and develop a nationwide strategy to prevent teen pregnancy and promote adolescent reproductive health, and to provide technical assistance to State and local coalitions.

Applicants must meet the following criteria:

a. Have a currently valid Internal Revenue Service (IRS) 501(c)(3) tax-exempt status.

b. Have a documented five year record of providing teen pregnancy prevention capacity-building assistance (i.e., materials development, training, technical consultation, or technical service) to community coalitions in multiple States.

c. Have the specific charge from its Articles of Incorporation, Bylaws, or a resolution from its executive board or governing body to operate regionally or nationally (i.e., multi-state) within the United States or its territories.

For the component Increasing Capacity in Teen Pregnancy Prevention through State and Local Coalitions, applications may be submitted by State or city coalitions working in teen pregnancy prevention from cities with populations of 500,000 or more (based on 2000 census figures).

Because the numbers of teen pregnancies are higher in many large urban areas, eligibility is limited to cities larger than 500,000. State or city-based coalitions are in the unique position to improve State and city teen pregnancy prevention coalitions and to assist in the selection, implementation, and evaluation of science-based programs that address local needs. These organizations are also uniquely positioned to represent the community and be recognized as the agency responsible for the health of the State or city.

Note to all applicants: Public Law 104-65 states that an organization described in section 501(c)(4) of the Internal Revenue Code of 1986 which engages in lobbying activities shall not be eligible for the receipt of Federal funds constituting an award, grant, contract, loan, or any other form.

D. Availability of Funds

For the component Increasing Capacity in Teen Pregnancy Prevention through National Organizations, approximately $500,000 is available in FY 2002 to fund approximately one to three awards. It is expected that the average award will be $165,000, ranging from $100,000 to $500,000.

For the component Increasing Capacity in Teen Pregnancy Prevention through State and City Coalitions, approximately $800,000 is available in FY 2002 to fund approximately three to eight awards. It is expected that the average award will be $100,000, ranging from $80,000 to $180,000.

CDC expects that the awards will begin on or about August 31, 2002, and will be made for a 12-month budget period within a project period of up to three years. Funding estimates may change.

Continuation awards within an approved project period will be made on the basis of satisfactory progress, as shown by required reports, and the availability of funds.

Use of Funds

a. You may use funds to:

(1) Support personnel

(2) Purchase equipment, supplies and services directly related to project activities

b. You may not use funds to:

(1) Supplant State or local health department funds

(2) Provide direct services

E. Program Requirements

In conducting activities to achieve the purpose of this program, you will be responsible for the activities under 1. Recipient Activities, and CDC will be responsible for the activities listed under 2. CDC Activities.

Increasing Capacity in Teen Pregnancy Prevention Through National Organizations

1. Recipient Activities

a. Convene an expert panel of researchers and evaluators to develop a strategic plan to increase the use of science-based interventions in national, State, and local programs to prevent teen pregnancy and promote adolescent reproductive health.

b. Provide technical assistance to State and local organizations, especially the coalitions funded through Increasing Capacity in Teen Pregnancy Prevention through State and Local Coalitions of this announcement, to increase the use of science-based interventions.

c. Disseminate science-based practices and findings through meetings, publications, technical assistance to State and local organizations, and other means.

d. Collaborate with CDC on program development, implementation, evaluation, and the dissemination of findings.

2. CDC Activities for Increasing Capacity in Teen Pregnancy Prevention Through National Organizations

a. Assist national researchers and evaluators to develop a national strategic plan.

b. Assist recipients to develop and disseminate publications.

c. Provide technical assistance to recipients on methods to prevent teen pregnancy and promote adolescent reproductive health.

Increasing Capacity in Teen Pregnancy Prevention Through State and Local Coalitions

1. Recipient Activities

a. Review current scientific literature on teen pregnancy prevention and youth development.

b. Through rigorous scientific evaluation, identify programs and program elements that have been shown to be effective in preventing teen pregnancy.

c. Collaborate with other funded recipients to share approaches.

d. Collaborate with national organizations funded through the Increasing Capacity in Teen Pregnancy Prevention through National Organizations component of this announcement to provide assistance with the dissemination of science-based approaches.

e. Assess the status of the coalition, to determine technical assistance needs regarding science-based approaches to prevent teen pregnancy.

f. Provide technical assistance to:

(1) Ensure that the identified community is involved in planning.

(2) Assess community needs and assets related to teen pregnancy prevention.

(3) Select science-based interventions to prevent teen pregnancy that meet the identified needs.

(4) Ensure quality implementation of selected interventions.

(5) Design and implement quality evaluation, both process and outcome, that will ensure program improvement and accountability.

(6) Analyze and translate findings into documents that may be disseminated through scientific journals, monographs, toolkits, media, internet or other means.

(7) Use data to improve programs and policies.

g. Track impact of technical assistance through progress of recipient activities.

h. Be willing to collaborate with CDC on program development, implementation, and evaluation, and the dissemination of the findings.

2. CDC Activities for Increasing Capacity in Teen Pregnancy Prevention Through State and Local Coalitions

a. Analyze, translate and disseminate findings through publications, meetings, and other means.

b. Assist in the coordination of activities between national, State, and city organizations funded through the Increasing Capacity in Teen Pregnancy Prevention through National Organizations and Increasing Capacity in Teen Pregnancy Prevention through State and Local Coalitions of this announcement.

c. Provide programmatic consultation, technical assistance, and training to recipients.

d. Facilitate communication between funded organizations from the Increasing Capacity in Teen Pregnancy Prevention through National Organizations and Increasing Capacity in Teen Pregnancy Prevention through State and Local Coalitions components of this announcement.

F. Content

Use the information in the Program Requirements, Other Requirements, and Evaluation Criteria to develop the application content. Your application will be evaluated on the criteria listed, so it is important to follow them when writing your narrative. Be sure to include all information listed in the program announcement as required, including the attachments.

The narrative should be no more than 15 double-spaced pages, printed on one side, with one-inch margins and unreduced font. It should be stapled together in the upper left hand corner. Do not include materials that are not requested. Materials not requested will be discarded.

Narrative for Increasing Capacity in Teen Pregnancy Prevention Through National Organizations

1. Capacity

a. Provide a publication list showing your expertise in teen pregnancy prevention.

b. Provide evidence of a five-year record of providing organizational capacity-building assistance to State or city teen pregnancy prevention coalitions or similar organizations. Such evidence should consist of the following:

(1) Mission Statement

(2) Bylaws

(3) Description of past and current activities and accomplishments

(4) Proof of 501(c)3 status

c. Provide conference agendas for national and regional meetings specifically sponsored by your organization, addressing teen pregnancy prevention.

d. Include awards received for leadership in teen pregnancy prevention.

e. Include letters of support demonstrating your relationships with State coalitions addressing teen pregnancy prevention and your leadership in teen pregnancy prevention.

f. Describe the technical expertise of your staff in teen pregnancy prevention.

g. Describe results of similar efforts that used the skills of providing technical assistance to other agencies, disseminating findings, and convening expert panels.

2. Operational Plan

a. Identify overall goals for the three-year project that use your organization's strengths and meet the goal of increasing the implementation and evaluation of science-based interventions.

b. Support the goals with objectives for the 12-month budget period that are specific, measurable and realistic.

c. Describe how the project will be implemented.

d. Identify activities that are likely to achieve each objective for the budget period.

e. Describe an appropriate management and staffing plan as indicated by Curriculum Vitae (CVs), job descriptions and organizational charts.

f. Provide a realistic timeline for activities.

g. Indicate willingness to collaborate with CDC and other national organizations.

3. Evaluation

a. Provide an evaluation plan which will define process and outcome evaluation measures that:

(1) Demonstrate progress in meeting objectives.

(2) Provide objective and quantitative evidence of effectiveness of approach.

4. Budget

Provide a clearly detailed and justified line item budget and narrative that is consistent with the intended use of funds.

5. Human Subjects

Address the requirements of Title 45 CFR Part 46 for the protection of human subjects.

Narrative for Increasing Capacity in Teen Pregnancy Prevention Through State and Local Coalitions

1. Organizational Capacity

a. Describe your organization's leadership role in teen pregnancy prevention.

b. Provide evidence of a five year record as a coalition with the ability to work innovatively with communities. Such evidence should consist of the following:

(1) Coalition mission statement

(2) Roster of members

(3) Bylaws

(4) Description of past and current activities and accomplishments

(5) Proof of 501 (c)(3) or State government status

(6) CVs demonstrating the technical expertise of staff in teen pregnancy prevention. Indicate which staff position will have the lead responsibility for project.

(7) Letters of support from coalition members, community agencies, or other community leaders.

2. Operational Plan

a. Identify overall goals for the three-year project that use the organization's strengths and increase the implementation and evaluation of science-based interventions.

b. Support the goals with objectives that are specific, measurable and realistic for the 12-month budget period.

c. Describe how the plan will be implemented.

d. Discuss the evaluation capacity of the coalition.

e. Propose potential community partners to meet any gaps in evaluation capacity.

f. Identify activities that are likely to achieve each objective for the budget period.

g. Describe appropriate management and staffing plan as indicated by CVs, job descriptions and organizational charts.

h. Provide a realistic timeline for activities.

i. Indicate willingness to collaborate with CDC and other national organizations.

3. Evaluation

a. Describe an evaluation plan that will:

(1) Document progress in meeting objectives.

(2) Provide evidence of effectiveness of approach.

4. Budget

Provide a clearly detailed and justified line item budget and narrative that is consistent with the intended use of funds.

5. Human Subjects

Address the requirements of Title 45 CFR Part 46 for the protection of human subjects.

G. Submission and Deadline

Submit original and two copies of CDC form 1246 (OMB Number 0920-0428).

Forms are available in the application kit and at the following Internet address: http://www.cdc.gov/od/pgo/forminfo.htm

The application must be received on or before 5:00 p.m. Eastern Time July 23, 2002. Submit the application to: Technical Information Management—PA02145, Procurement and Grants Office, Centers for Disease Control and Prevention, 2920 Brandywine Rd, Room 3000, Atlanta, GA 30341-4146.

Deadline

Applications shall be considered as meeting the deadline if they are received on or before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, consider the application as having been received by the deadline.Applications which do not meet the above criteria will not be eligible for competition and will be discarded. Applicants will be notified of their failure to meet the submission requirements.

H. Evaluation Criteria

Applicants are required to provide measures of effectiveness that will demonstrate the accomplishment of the various identified objectives of the cooperative agreement. Measures must be objective and quantitative and must measure the intended outcome. These measures of effectiveness shall be submitted with the application and shall be an element of evaluation.

Each application will be evaluated individually against the following criteria by an independent review group appointed by CDC:

Evaluation Criteria for Increasing Capacity in Teen Pregnancy Prevention Through National Organizations:

1. Operational Plan (45 points)

The extent to which:

a. The overall goals for the project period use the organization's strengths and meet the goal of increasing the implementation and evaluation of science-based interventions.

b. The goals with objectives for the 12-month budget period are specific, measurable and realistic.

c. Implementation plans are clear and appropriate.

d. Activities are likely to achieve each objective for the budget period.

e. Management and staffing plan as indicated by CVs, job descriptions and organizational charts are appropriate.

f. Timeline for activities is realistic.

g. Applicant states willingness to collaborate with CDC and other national organizations.

2. Capacity (35 points)

The extent to which the applicant documents its status as a national leader in teen pregnancy prevention as shown by:

a. A publication list showing expertise in teen pregnancy prevention.

b. Mission statement, bylaws, and a description of past and current activities and accomplishments.

c. Conference agendas for national and regional meetings specifically sponsored by the organization, addressing teen pregnancy prevention.

d. Awards for leadership in teen pregnancy prevention received by the organization.

e. Letters of support demonstrating appropriate relationships with State coalitions addressing teen pregnancy prevention and its leadership in teen pregnancy prevention.

f. CVs demonstrating the technical expertise of staff in teen pregnancy prevention.

g. Descriptions and results of other similar efforts that used the same skills of providing technical assistance to other agencies, disseminating results and convening expert panels.

3. Evaluation (20 points)

The extent to which the applicant defines process and outcome evaluation measures that:

a. Demonstrate progress in meeting objectives.

b. Provide evidence of effectiveness of approach to reduce teen pregnancy.

4. Budget (not scored)

The extent to which the budget is detailed, itemized, reasonable, clearly justified, and consistent with the intended use of funds.

5. Protection of Human Subjects (not Scored)

The extent to which the applicant adequately addresses the requirements of Title 45 CFR Part 46 for the protection of human subjects.

Evaluation Criteria for Increasing Capacity in Teen Pregnancy Prevention through State and Local Coalitions:

1. Operational Plan (45 points)

The extent to which:

a. The overall goals for the three-year project period use the organization's strengths and meet the goal of increasing the implementation and evaluation of science-based interventions.

b. Goals with objectives for the 12-month budget period are specific, measurable and realistic.

c. The plan is likely to meet proposed objectives.

d. Evaluation capacity of the coalition is described. Potential community partners to meet any gaps in evaluation capacity are appropriate.

e. Activities are likely to achieve each objective for the budget period.

f. Appropriate management and staffing plan as indicated by CVs, job descriptions and organizational charts are appropriate.

g. A realistic timeline for activities is provided.

h. Applicant states willingness to collaborate with CDC and other national organizations.

2. Capacity (35 points)

The extent to which the applicant documents its leadership role in teen pregnancy prevention, evidence of five-year record as a coalition, and ability to work innovatively with communities as shown by:

a. Coalition mission statement, roster of members, bylaws and description of past and current activities and accomplishments.

b. CVs demonstrating the technical expertise of staff in teen pregnancy prevention and indicating which staff position will have the lead responsibility for project.

c. Letters of support from coalition members, community agencies or other community leaders.

3. Evaluation (20 points)

The extent to which the applicant proposes process and outcome evaluation measures that:

a. Demonstrate progress in meeting objectives.

b. Provide evidence of effectiveness of approach.

4. Budget (not scored)

The extent to which the budget is detailed, itemized, reasonable, clearly justified, and consistent with the intended use of funds.

5. Protection of Human Subjects (not scored)

The extent to which the applicant adequately addresses the requirements of Title 45 CFR part 46 for the protection of human subjects.

H. Other Requirements

Technical Reporting Requirements for all programs Provide CDC with original plus two copies of:

1. Semi-annual progress reports. The first report is due April 15, 2003. Subsequent semi-annual reports will be due on the 28th of February each year through February 28, 2006.

Continuation Application Guidance

The April 15th semi-annual progress report and accompanying budget and budget justification will be used to process your continuation award. Semi-annual progress reports should include the following information outlined in the requirements under items (a) through (e):

a. A succinct description of the program accomplishments/narrative and progress made in meeting each program objective during the first six months of the budget period (August 31 through February 28). It should consist of no more than 20 pages.

b. The reason for not meeting established program goals and strategies to be implemented to achieve unmet objectives (see performance measures below for each program area).

c. A description of any new objectives including the expected impact on the overall burden of teenage pregnancy.

d. A one year line item budget and budget justification.

e. For all proposed contracts, provide the name of contractor, period of performance, method of selection, method of accountability, scope of work, and itemized budget and budget justification. If the information is not available when the application is submitted, please indicate “TO BE DETERMINED” until the information is available. When the information becomes available, it should be submitted to the CDC Procurement and Grants Management Office contact identified in this program announcement. Document and report the number of training programs offered and the number of people trained.

2. Annual progress reports. The annual report is due no more than 90 days after the end of the budget period (August 31, 2003) and should consist of the same information outlined for the semi-annual progress report in (a) through (c) above.

3. Financial status reports, due no more than 90 days after the end of the budget period.

4. Final financial and performance reports, due no more than 90 days after the end of the project period.

Performance Measures for Increasing Capacity in Teen Pregnancy Prevention Through National Organizations

1. Evidence of a national strategic plan to prevent teen pregnancy developed in partnership with CDC and other national organizations, focusing on teen pregnancy prevention, nationally recognized researchers, and evaluators.

2. Evidence of dissemination of information about science-based teen pregnancy prevention programs to organizations working with youth on the national, State and local levels. Dissemination can be achieved through meetings, papers, video conferences, websites, reports and other innovative methods.

Performance Measures for Increasing Capacity in Teen Pregnancy Prevention Through State and Local Coalitions

1. Evidence of targeted technical assistance in science-based teen pregnancy prevention provided to coalition members and other targeted organizations.

2. Evidence of dissemination of information on science-based approaches to teen pregnancy prevention including evaluation through documentation of technical assistance, presentations, papers, reports and other innovative methods.

Send all reports to the Grants Management Specialist identified in the “Where to Obtain Additional Information” section of this announcement.

The following additional requirements are applicable to both components.

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

AR-21 Small, Minority, Women-Owned Businesses

J. Where To Obtain Additional Information

This and other CDC announcements can be found on the CDC home page Internet address— http://www.cdc.gov. Click on “Funding” then “Grants and Cooperative Agreements.”

If you have questions after reviewing the contents of all the documents, business management technical assistance may be obtained from: LaKasa Wyatt, Grants Management Specialist, Grants Management Branch, Procurement and Grants Office, Centers for Disease Control and Prevention, 2920 Brandywine Road, Room 3000, Atlanta, GA 30341-4146, Telephone number: 770-488-2728, E-mail address: lwyatt@cdc.gov.

For program technical assistance contact: Mary Schauer, MSPH, Health Scientist, Division of Reproductive Health, Centers for Disease Control and Prevention, 4770 Buford Highway NE MS K-22, Atlanta GA 30341, Telephone number: 770-488-6306, E-mail address: mes9@cdc.gov.

Dated: June 14, 2002.
Sandra R. Manning,
CGFM, Director, Procurement and Grants Office, Centers for Disease Control and Prevention.

[FR Doc. 02-15544 Filed 6-19-02; 8:45 am]

BILLING CODE 4163-18-P